DEPARTMENT OF COMMERCE

National Oceanic and Atmospheric Administration

[I.D. 051500C]

Guidelines for Economic Analysis of Fishery Management Actions

AGENCY: National Marine Fisheries Service (NMFS), National Oceanic and Atmospheric Administration (NOAA), Commerce.

ACTION: Notice of availability; request for comments.

SUMMARY: The Guidelines for Economic Analysis of Fishery Management Actions (Guidelines) provide guidance on meeting the procedural and analytical requirements of Executive Order (E.O.) 12866 and the Regulatory Flexibility Act(RFA)for regulatory actions of federally managed fisheries. Specifically, the guidelines include a general framework for conducting economic analyses of regulatory actions; recommend that a preliminary regulatory economic evaluation be conducted early in the regulatory process to provide information on the impacts of proposed measures to the public and decision makers; outline the process for doing the regulatory impact review for meeting analytical requirements, including information requirements, analytical procedures, and methodologies; outline the steps for fulfilling the requirements of the Regulatory Flexibility Act; discuss the relationship of the Regulatory Flexibility Act to other applicable law; and identify ways of involving small entities in the rulemaking process.

DATES: Comments and information must be received no later than June 21, 2000.

ADDRESSES: Comments on the guidelines should be addressed to Theo R. Brainerd, Regulatory Services Division (Stn. 13212), Office of Sustainable Fisheries, NOAA/NMFS, 1315 East West Highway, Silver Spring, Maryland 20910.

Comments may also be sent via facsimile (fax) to 301-713-0696. A copy of the draft guidelines is available through the internet at: <<http: //www.nmfs.gov/sfa/>> under “Proposed & Final Rules, and Documents for Public Comment.”

FOR FURTHER INFORMATION CONTACT: Theo R. Brainerd, NMFS, 301-713-2337.

SUPPLEMENTARY INFORMATION:

Background

The objective of E.O. 12866 (58 FR 51735, October 4, 1993) is to improve the Federal regulatory system. NMF complies with E.O. 12866 by preparing a Regulatory Impact Review (RIR) which includes an analysis of the economic effects of the proposed action and alternative actions. The RIR is intended to assist Councils and the NMFS in selecting the regulatory approach that maximizes net benefits (including potential economic, environmental, public health and safety, and other advantages; distributive impacts, and equity issues), unless a statute requires another regulatory approach.

The purpose of the RFA (5 U.S.C. 601 et seq.) is to establish as a principle of regulatory issuance that agencies shall endeavor, consistent with the objectives of the regulatory action and applicable statutes, to fit regulatory and informational requirements to the scale of businesses, organizations, and governmental jurisdictions subject to the regulation. NMFS conducts a Regulatory Flexibility Act Analysis (RFAA) to assess the impacts of the proposed/final rule on small entities and describes steps the agency has taken to minimize any significant economic impact on small entities while achieving regulatory goals.

In comparison to the previous RIR/RFAA guidelines, these guidelines:

Incorporate the revisions to the Regulatory Flexibility Act made by the Small Business Regulatory Enforcement Act;

Revise the basis the agency will use to certify that a proposed regulation will not have a significant economic impact on a substantial number of small entities;

Place greater emphasis on the need for the Councils and NMFS to have draft analyses early in the FMP development process and final analyses available prior to a decision on the preferred course of action. These analyses would also be a source of information for public comment on the expected effects of the alternatives under consideration;

Provide recommendations concerning key topic areas and organization for the regulatory analyst to consider when developing and revising the regulatory analysis; and

Based on the growing regulatory emphasis on protected resources and habitat, recommend that analysts highlight, where appropriate, the effects on the non-consumptive uses of fishery, other living marine resources, and the ecological benefits derived from these resources and their habitats.

Dated: May 17, 2000.
Bruce C. Morehead,
Acting Director, Office of Sustainable Fisheries, National Marine Fisheries Service.

[FR Doc. 00-12834 Filed 5-19-00; 8: 45 am]

BILLING CODE 3510-22-F